DEPARTMENT OF COMMERCE

International Trade Administration

[A-428-801]

Antifriction Bearings (Other Than Tapered Roller Bearings) and Parts Thereof From Germany; Notice of Amended Final Results of Antidumping Duty Administrative Reviews Pursuant to Final Court Decision

AGENCY: Import Administration, International Trade Administration, Department of Commerce.

ACTION: Notice of amended final results of administrative reviews pursuant to final Court decision.

SUMMARY: The United States Court of International Trade and the United States Court of Appeals for the Federal Circuit have affirmed the Department of Commerce's final remand results affecting final assessment rates for the administrative reviews of the antidumping duty orders on antifriction bearings (other than tapered roller bearings) and parts thereof from Germany. The classes or kinds of merchandise covered by these reviews are ball bearings and parts thereof, cylindrical roller bearings and parts thereof, and spherical plain bearings and parts thereof. The period of review is May 1, 1992, through April 30, 1993. As there is now a final and conclusive court decision in this case, we are amending our final results of reviews and we will instruct the Customs Service to liquidate entries subject to these reviews.

EFFECTIVE DATE: November 16, 2001.

FOR FURTHER INFORMATION CONTACT: Katja Kravetsky or Mark Ross, AD/CVD Enforcement 3, Import Administration, International Trade Administration, U.S. Department of Commerce, 14th Street and Constitution Avenue, NW., Washington, DC 20230; telephone (202) 482-4733.

SUPPLEMENTARY INFORMATION:

The Applicable Statute

Unless otherwise indicated, all citations to the Tariff Act of 1930, as amended (the Act), are references to the provisions in effect as of December 31, 1994. In addition, unless otherwise indicated, all citations to the Department of Commerce's (the Department's) regulations are to the regulations as codified at 19 CFR part 353 (1995).

Background

On February 28, 1995, the Department published its final results of administrative reviews of the antidumping duty orders on antifriction bearings (other than tapered roller bearings) and parts thereof from France, Germany, Italy, Japan, Singapore, Sweden, Thailand, and the United Kingdom, covering the period May 1, 1992, through April 30, 1993. See Antifriction Bearings (Other Than Tapered Roller Bearings) and Parts Thereof From France, et al.; Final Results of Antidumping Duty Administrative Reviews, Partial Termination of Administrative Reviews, and Revocation in Part of Antidumping Duty Orders, 60 FR 10900 (February 28, 1995). These final results were amended on February 28, 1995, June 13, 1995, and September 26, 1995 (see 60 FR 10967, 60 FR 31142, and 60 FR 49568, respectively). The classes or kinds of merchandise covered by these reviews are ball bearings and parts thereof (BBs), cylindrical roller bearings and parts thereof (CRBs), and spherical plain bearings and parts thereof (SPBs). A domestic producer, the Torrington Company, and a number of respondent interested parties challenged the final results in the United States Court of International Trade (CIT).

In INA Walzlager Schaeffler KG, and INA Bearing Company, Inc., FAG Kugelfischer Georg Schafer AG, FAG Bearings Corporation, SKF USA Inc., and SKF GmbH v. United States, 957 F. Supp. 251 (CIT 1997), the CIT ordered the Department to make methodological changes and to recalculate the antidumping margins for INA, FAG, and SKF. Specifically, the CIT ordered the Department, inter alia, to make the following changes:

(1) Deduct imputed interest for INA's credit expenses and inventory carrying expenses from cost of production (COP);

(2) Adjust the profit calculation for INA for the differences between sales COP and constructed value COP;

(3) Apply a tax-neutral amount methodology in computing the value-added tax (VAT) adjustment;

(4) Deny the adjustment to foreign market value (FMV) for FAG's negative billing adjustments, post-sale price adjustments, and third-party discounts;

(5) Allow a direct adjustment to FMV for SKF's rebate two; and

(6) Explain the circumstances in which the Department will apply the reimbursement regulation in exporter's-sales-price (ESP) situations.

On June 3, 1997, the Department submitted the recalculated results consistent with the CIT's remand order. The Department deducted imputed interest for INA's credit and inventory carrying costs from COP and adjusted the profit calculation for the differences between sales COP and constructed value COP; applied a tax-neutral methodology in computing the VAT adjustment for all three respondents; denied the indirect selling expense adjustment to FMV for FAG's negative billing adjustments, post-sale price adjustments, and third-party discounts; allowed a direct adjustment to FMV for SKF's rebate two; and explained the circumstances under which we will apply the regulation regarding reimbursement of antidumping duties in ESP situations.

On September 29, 1997, the CIT affirmed the Department's Final Results of Redetermination on Remand (Slip Op. 97-141).

One respondent, SKF, appealed two issues, the Department's denial of SKF's billing adjustment two and cash discounts, to the Court of Appeals for the Federal Circuit (CAFC).

On June 10, 1999, the CAFC agreed that the Department properly disallowed SKF's billing adjustment two and cash discounts because the claimed adjustments were not limited to merchandise within the scope of the antidumping duty order. SKF USA Inc. and SKF GmbH v. U.S., 180 F. 3d 1370 (Fed. Cir. 1999). This decision was not appealed.

As there is a final and conclusive court decision in this action, we are amending our final results of review in this matter, and we will instruct the Customs Service to liquidate entries subject to these reviews.

Amendment to Final Results

Pursuant to section 516A(e) of the Act, we are now amending the final results of the administrative reviews of the antidumping duty orders on antifriction bearings (other than tapered roller bearings) and parts thereof from Germany for the period May 1, 1992, through April 30, 1993. The revised weighted-average percentage margins are as follows:

Company | BBs | CRBs | SPBs
INA Walzlager Schaeffler KG | 26.62 | 9.72 | (¹)
FAG Kugelfischer Georg Schafer AG | 9.38 | 12.32 | 14.46
SKF GmbH | 14.48 | 9.97 | 21.35
¹ No shipments during the period of review.

Assessment Rates

Accordingly, the Department will determine, and the Customs Service will assess, antidumping duties on all appropriate entries. Individual differences between United States price and foreign market value may vary from the percentages listed above. For companies covered by these amended results, the Department will issue appraisement instructions to the Customs Service after publication of these amended final results of reviews.

We are issuing and publishing this determination in accordance with sections 751(a)(1) and 777(i)(1) of the Act.

Dated: November 2, 2001.
Faryar Shirzad,
Assistant Secretary for Import Administration.

[FR Doc. 01-28758 Filed 11-15-01; 8:45 am]

BILLING CODE 3510-DS-P